DEPARTMENT OF TRANSPORTATION

Federal Railroad Administration

Petition for Waiver of Compliance

In accordance with part 211 of title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Rod and Ellen Fishburn

[Waiver Petition Docket Number FRA-2010-0080]

Rod and Ellen Fishburn (the Fishburns), private citizens residing in Tujunga, California, seeks a waiver of compliance from the Safety Glazing Standards of 49 CFR 223.15, Requirements for existing passenger cars. Specifically, the Fishburns have petitioned FRA for a waiver for private railroad passenger car AMTK 800061, Colonial Crafts, which was built for the Pennsylvania Railroad in 1949. The Fishburns operate this car in charter, tourist and excursion service on Amtrak and other railroads.

The Fishburns state that the passenger car is equipped with double pane laminated safety glass and polycarbonate glazing material; with the exception of four passageway and three small auxiliary windows, which are glazed with single pane ¼″ polycarbonate. The Fishburns state that in 20+ years of operating the car, the current glazing has had a perfect safety record protecting both passengers and staff. None of the many objects that have struck the car over the years have penetrated the glazing and entered the passenger compartment. The Fishburns additionally state that operation of the passenger car is a very small business, and the cost of installing compliant glazing would pose an extreme hardship.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0080) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC, on June 25, 2010.
Michael J. Logue,
Deputy Associate Administrator, Safety Compliance and Program Implementation.

[FR Doc. 2010-16055 Filed 6-30-10; 8:45 am]

BILLING CODE 4910-06-P